SOCIAL SECURITY ADMINISTRATION

Agency Information Collection Activities: Emergency Clearance Request

The Social Security Administration (SSA) publishes a list of information collection packages requiring clearance by the Office of Management and Budget (OMB) in compliance with Public Law 104-13, the Paperwork Reduction Act (PRA) of 1995, effective October 1, 1995. This notice includes requests for expedited emergency clearance of a new collection and a revision of an existing OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Director at the following addresses or fax numbers.

(OMB), Office of Management and Budget, Attn: Desk Officer for SSA, Fax: 202-395-6974, mail address: OIRA_Submission@omb.eop.gov.

(SSA), Social Security Administration, DCRDP, Attn: Reports Clearance Officer, 107 Altmeyer Building, 6401 Security Blvd., Baltimore, MD 21235, Fax: 410-966-2830, Email address: OPLM.RCO@ssa.gov.

SSA submitted the information collections below to OMB for Emergency Clearance. SSA is requesting Emergency Clearance from OMB no later than May 17, 2012. Your comments regarding the information collections would be most useful if OMB and SSA receive them within 30 days from the date of this publication. To be sure we consider your comments, we must receive them no later than May 17, 2012. Individuals can obtain copies of the collection instruments by contacting the SSA Reports Clearance Director at the above fax number or email address.

1. Protecting the Public and Our Personnel To Ensure Operational Effectiveness (RIN 0960-AH35), Regulation 3729F—20 CFR 422.905, 422.906—0960-NEW

Background

When members of the public demonstrate disruptive, violent, or threatening actions or behavior toward SSA employees, the agency will take measures to ensure the safety of everyone involved, including banning such individuals from appearing in person at any of our field offices. In lieu of in-person office visits, the agency provides services to banned individuals through alternate methods, including our 800 number, online applications, mail services, or, in limited circumstances, face-to-face services by appointment with additional security present.

On September 2, 2011, the agency published regulations and notifications processes for the ban decision at 76 FR 54700. The current information collection request (ICR) requests approval for the public reporting burdens from the interim final rules.

Information Collection Description

The interim final ban decision rules contain two public reporting burdens:

• 20 CFR 422.905—After SSA issues a ban decision against an individual, the individual has 60 days to appeal that determination. Individuals must submit a written appeal stating why they believe SSA should rescind the ban and allow them to conduct business with us on a face-to-face basis in one of our offices. There is no printed form for this request; banned individuals create their own written statement of appeal, and submit it to a sole decision-maker in the Regional Office of the region where the ban originated. The individuals may also provide additional documentation to support their appeal.

• 20 CFR 422.906—Three years after the original ban decision, banned individuals may re-submit a written appeal of the determination. The same criteria apply as for the original appeal: (1) It must be in writing; (2) it must go to a sole decision-maker in the Regional Office of the region where the ban originated for review; and (3) it may accompany supporting documentation.

Respondents for this collection are individuals appealing their banning from SSA field offices.

Justification for Emergency Clearance

When we originally published the banning decision rules at 76 FR 54700, the agency did not anticipate the number of respondents would meet the threshold for PRA clearance. Since then, our field offices have provided us with evidence indicating we will meet and exceed this threshold, so we are pursuing OMB PRA clearance now. Because of the compelling personal security issues the banning rules address, we are pursuing expedited emergency clearance from OMB no later than May 17, 2012.

Type of Request: Emergency request for a new information collection.

Regulation section | Number of respondents | Frequency of response | Average burden per response (minutes) | Estimated annual burden (hours)
20 CFR 422.905 | 75 | 1 | 15 | 19
20 CFR 422.906 | 75 | 1 | 20 | 25
Total | 150 |  |  | 44

2. The Ticket To Work and Self-Sufficiency Program—20 CFR 411—0960-0644

Background

SSA's Ticket to Work Program (TTW) transitions Social Security Disability Insurance (SSDI) and Supplemental Security Income (SSI) recipients toward independence by allowing them to receive Social Security payments while maintaining employment under the auspices of the program. SSA uses service providers, called Employment Networks (ENs), to supervise participant progress through the stages of ticket program participation, such as job searches and interviews, progress reviews, and changes in ticket status. ENs can be private for-profit and non-profit organizations, as well as state vocational rehabilitation agencies (VRs).

SSA and the ENs utilize the Ticket to Work Program Manager to operate the TTW program and exchange information about TTW participants. For example, the ENs use Program Manager to provide updates on tasks such as selecting a payment system or requesting payments for helping the beneficiary achieve certain work goals. Since the ENs are not PRA-exempt, the multiple information collections within the TTW Program Manager require OMB approval, and we clear them under this ICR number.

Information Collection Description

SSA requires ENs to submit multiple types of TTW program and participant information, resulting in 13 information collection instruments (described below in categories a-i; if we do not mention a specific form number, we require information in writing with no established form):

a. Establishing Ticket Assignments and Ticket Use: Forms SSA-1365 and SSA-1370 collect information regarding the establishment of the Ticket assignment and the Individual Work Plan;

b. Requesting Ticket Unassignments and Notifying of VR Case Closures in writing;

c. Tracking Progress: SSA-1375—request for certification of work and educational progress from individuals; SSA-L1377—request for certification of work and educational progress from ENs and VR agencies; request for Ticket-use status after not making timely progress; request to place a Ticket in inactive status;

d. Selecting a Payment System for EN use;

e. Reporting Referral Agreement Activity of the ENs;

f. Requesting EN Payments through use of the SSA-1389, SSA-1391, SSA-1393, SSA-1396, SSA-1398, and SSA-1399; reporting split payment situations using the SSA-1401;

g. EN Reporting of Periodic Outcomes;

h. Dispute Resolution between ENs, VR agencies, and individual Ticket holders;

i. EN Contract Changes report.

The respondents for these collections are the ENs, and by extension, the TTW participants from whom they obtain information to complete some of these collections.

Modality of Collection and Proposed Changes

Although it has used some semi-electronic and electronic collection methodologies, such as faxes and, to a limited extent, the Internet, to date, the majority of the Program Manager information has been written paper documentation. To redress this, the agency is planning to implement a new web-based Secure Provider Portal that ENs and the agency can use to quickly and securely exchange information and update a TTW ticket holder's file.

Justification for Emergency Clearance

The agency believes the new Web-based portal will represent a significant savings of time and resources, both for the agency and for the participating ENs. In a time when government agencies such as ours are operating under severe budgetary and human capital constraints, we believe we have an obligation to immediately implement a program that would make such a drastic difference. For this reason, because of the overwhelmingly positive and eager interest ENs have expressed in using the web portal, and because of manpower limitations we will be facing in the upcoming months, SSA is seeking expedited emergency clearance of this collection.

Delayed implementation of the Web portal could have the following consequences: (1) Reduced productivity for the second half of FY 2012 (since it will continue to take ENs longer to submit requests, and it will take us longer to process them); (2) subsequent delayed services to beneficiaries; and (3) an inability to process payment requests to EN's and State VR's for the services they provide beneficiaries. In addition, if the portal is not available for use until shortly before we make the remaining contract reductions, and there are problems with transitioning to it, there will not be labor to process ticket assignments, payment requests, and other incoming documents, or to fulfill requests for reports. This would bottleneck or possibly suspend some daily TTW operations.

Finally, the agency is only planning to pilot this collection with a limited number of ENs after receiving emergency OMB approval. We will not expand rollout to all ENs until seeking standard OMB clearance. We are asking for OMB approval of this Emergency Clearance no later than May 17, 2012.

Type of Request: Emergency request for a new information collection.

Modality of collection | Number of respondents | Frequency of response | Average burden per response (minutes) | Estimated annual burden (hours)
a. SSA-1365 (Paper) | 2,370 | 1 | 15 | 593
a. SSA-1365 (Portal) | 2,370 | 1 | 11 | 434
a. SSA-1370 (Paper) | 3,913 | 1 | 60 | 3,913
a. SSA-1370 (Portal) | 3,912 | 1 | 45 | 2,934
a. Electronic file submission | 35,584 | 1 | 5 | 2,965
b. Requesting unassignments (written) | 4,988 | 1 | 15 | 1,247
b. Requesting unassignments (Portal) | 4,988 | 1 | 11 | 914
b. VR case closures | 8,505 | 1 | 5 | 709
c. Request to place Ticket in inactive status | 6 | 1 | 30 | 3
c. SSA-1375 | 112,362 | 1 | 15 | 28,091
c. SSA-L1377 (Paper) | 43,216 | 1 | 15 | 10,804
c. SSA-L1377 (Portal) | 21,608 | 1 | 11 | 3,961
c. Request to reenter Ticket-Use status | 41 | 1 | 30 | 21
d. Selecting a payment system | 5 | 1 | 10 | 0
e. Reporting referral agreements | 1* | 1 | 480 | 8
f. Requesting EN payments: SSA-1389; SSA-1391; SSA-1393; SSA-1396; SSA-1398; SSA-1399 | 14,025 | 1 | 40 | 9,350
f. Requesting EN payments (Portal) | 14,025 | 1 | 22 | 5,142
f. Requesting EN payments (Automatic Payments) | 28,050 | 1 | 0 | 0
f. SSA-1401 (split payment form) | 100 | 1 | 20 | 33
g. Periodic outcome reporting | 1371 | 1 | 60 | 1371
h. Dispute resolution | 2 | 1 | 120 | 4
i. EN contract changes | 210 | 1 | 10 | 35
Total | 301,652 |  |  | 72,534
*(None received in 2010 or 2011.)

Dated: March 12, 2012.
Faye Lipsky,
Reports Clearance Director, Office of Regulations and Reports Clearance, Social Security Administration.

[FR Doc. 2012-9203 Filed 4-16-12; 8:45 am]

BILLING CODE 4191-02-P